DEPARTMENT OF VETERANS AFFAIRS

Special Medical Advisory Group; Notice of Meeting

The Department of Veterans Affairs (VA) gives notice under the Federal Advisory Committee Act, 5 U.S.C. App. 2, that the Special Medical Advisory Group will meet on April 20, 2017, at the Veterans Health Administration National Conference Center, 2011 Crystal Drive Arlington, VA 22202, Potomac `A' Room, from 8:00 a.m. to 4:00 p.m. ET. The meeting is open to the public.

The purpose of the Group is to advise the Secretary of Veterans Affairs and the Under Secretary for Health on the care and treatment of Veterans, and other matters pertinent to the Department's Veterans Health Administration (VHA).

The agenda for the meeting will include a review of the agency's' priorities, VHA modernization, and governance structure for quality, safety and value.

Thirty (30) minutes will be allocated at the end of the meeting for receiving oral presentations from the public. Members of the public may submit written statements for review by the Committee to Jessica D. Williams, Department of Veterans Affairs, Office of Under Secretary for Health (10), Veterans Health Administration, 810 Vermont Avenue NW., Washington, DC 20420, or by email at vasmagdfo@va.gov.

Any member of the public wishing to attend the meeting or seeking additional information should contact Ms. Jessica Williams at (202) 461-7000 or by email.

Dated: March 28, 2017.
LaTonya L. Small, Ed.D.,
Federal Advisory Committee Management Officer.

[FR Doc. 2017-06406 Filed 3-31-17; 8:45 am]

BILLING CODE 8320-01-P